DEPARTMENT OF TRANSPORTATION

Federal Aviation Administration

14 CFR Part 67

[Docket No. FAA-2012-0056; Amdt. No. 67-21]

RIN 2120-AK00

Removal of the Part 67 Requirement for Individuals Granted the Special Issuance of a Medical Certificate to Carry Their Letter of Authorization While Exercising Pilot Privileges; Confirmation of Effective Date

AGENCY: Federal Aviation Administration (FAA), DOT.

ACTION: Direct final rule; confirmation of effective date.

SUMMARY: This action confirms the effective date of the direct final rule published on March 22, 2012. The rule removes a regulatory provision under Federal Aviation Administration (FAA) medical certification standards that requires individuals granted the Special Issuance of a Medical Certificate (Authorization) to have their letter of Authorization in their physical possession or readily accessible on the aircraft while exercising pilot privileges.

DATES: The direct final rule becomes effective on July 20, 2012.

ADDRESSES: For information on where to obtain copies of rulemaking documents and other information related to this action, see “How To Obtain Additional Information” in the SUPPLEMENTARY INFORMATION section of this document.

FOR FURTHER INFORMATION CONTACT: For technical questions concerning this action, contact Judi Citrenbaum, Office of Aerospace Medicine, Federal Aviation Administration, 800 Independence Avenue SW., Washington, DC 20591; telephone (202) 267-9689; email Judi.M.Citrenbaum@faa.gov.

For legal questions concerning this action, contact Sabrina Jawed, Office of the Chief Counsel, Regulations Division, Federal Aviation Administration, 800 Independence Avenue SW., Washington, DC 20591; telephone (202) 267-3073; email Sabrina.Jawed@faa.gov.

SUPPLEMENTARY INFORMATION:

Background

Since 2008, Title 14, Code of Federal Regulations (14 CFR) § 67.401(j) has required individuals granted the Special Issuance of a Medical Certificate (Authorization) to have their letter of Authorization in their physical possession or readily accessible in the aircraft while exercising pilot privileges. The FAA published a direct final rule on March 22, 2012 (77 FR 16664) to remove this provision for several reasons. Namely, affected individuals find the standard burdensome given that other longstanding FAA operational requirements already mandate that pilots carry their medical certificate when exercising pilot privileges. In addition, the FAA is not aware of any individuals affected by the standard who have had to produce their letter of Authorization for any civil aviation authorities during the nearly 4-year period the rule has been in effect. In this regard, the FAA identified this rulemaking action as burden-relieving under Executive Order 13563 of January 18, 2011 entitled “Improving Regulation and Regulatory Review.”

Once this rule becomes effective, § 67.401(j) no longer will apply. This means that the “Note” under the regulatory reference to § 67.401(j) listed under the “Conditions of Issue” on an individual's existing FAA medical certificate no longer will be necessary. This does not mean that the FAA needs or intends to re-issue medical certificates. It will be acceptable for the FAA medical certificate to reference this “Note” until an individual's medical certificate is renewed. The FAA will begin using medical certificates with updated “Conditions of Issue” that do not include reference to the removed standard as soon as possible after July 20, 2012.

Discussion of Comments

The FAA received nine supportive comments from individuals and one supportive comment from the Air Line Pilots Association International regarding this action. All of the commenters believe that this regulation is unnecessary, and removing it would relieve affected pilots of an undue burden.

Conclusion

The FAA received no adverse comments in response to the direct final rule “Removal of the Part 67 Requirement for Individuals Granted the Special Issuance of a Medical Certificate to Carry Their Letter of Authorization While Exercising Pilot Privileges”. The FAA has determined that no further rulemaking action is necessary. Therefore, the rule is adopted as amendment 67-21 and becomes effective on July 20, 2012.

How To Obtain Additional Information

A. Rulemaking Documents

An electronic copy of a rulemaking document my be obtained by using the Internet —

1. Search the Federal eRulemaking Portal (http://www.regulations.gov);

2. Visit the FAA's Regulations and Policies Web page at http://www.faa.gov/regulations_policies/ or

3. Access the Government Printing Office's Web page at http://www.gpo.gov/fdsys.

Copies may also be obtained by sending a request (identified by notice, amendment, or docket number of this rulemaking) to the Federal Aviation Administration, Office of Rulemaking, ARM-1, 800 Independence Avenue SW., Washington, DC 20591, or by calling (202) 267-9680.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

Issued in Washington, DC on June 6, 2012.
Frederick E. Tilton,
Federal Air Surgeon.

[FR Doc. 2012-16317 Filed 7-2-12; 8:45 am]

BILLING CODE 4910-13-P